DEPARTMENT OF DEFENSE

Department of the Army

Availability for Non-Exclusive, Exclusive, or Partially Exclusive Licensing of U.S. Patent Concerning the Monitoring and Tracking of Emergencies in Support of the E-911 System

AGENCY: Department of the Army, DoD.

ACTION: Notice.

SUMMARY: In accordance with 37 CFR 404.6 and 404.7, announcement is made of the availability for licensing of the invention set forth in U.S. Patent No. 7,177,623 entitled “Localized Cellular Awareness and Tracking of Emergencies,” issued on February 13, 2007. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil (256) 955-3213 or Ms. Susan D. McRae, Office of Research and Technology Applications, e-mail: susan.mcrae@smdc.army.mil; (256) 955-1501.

SUPPLEMENTARY INFORMATION: The invention pertains to establishing a three-way call between a wireless 911 caller, an emergency 911 dispatcher, and security/law enforcement personnel assigned to monitor a particular property. When a wireless 911 caller makes a 911 call from a specific property, the wireless network provides the caller's automatic location identification (ALI) information to a Localized Cellular Awareness and Tracking of Emergencies (LoCATE) System Unit (LSU) before the call is routed to the 911 dispatcher. The LSU uses the ALI information to determine the phone numbers of the surveillance property's assigned security/law enforcement personnel (e.g., a building security guard) and provides these phone numbers to the wireless network. The LSU requests the wireless network to establish a three-way call between the 911 caller, the 911 emergency dispatcher, and the surveillance property's assigned security/law enforcement personnel. Thus, the invention provides a real-time communication link with a specific property's assigned security/law enforcement personnel, who can provide the most immediate response to an emergency occurring at the property before the arrival of the traditional or official first responders who are dispatched by the 911 dispatcher. Possible surveillance applications include buildings, campuses, national monuments, crime zones, airports, sports arenas, parades, amusement parks, bridges, borders, highways, waterways, special events, etc.

Brenda S. Bowen,
Army Federal Register Liaison Officer.

[FR Doc. 07-852 Filed 2-23-07; 8:45 am]

BILLING CODE 3710-08-M